DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps (NACNHSC).

Dates and Times: March 21-22, 2016, 8:30 a.m.-4:30 p.m. EST.

Place: U.S. Department of Health and Human Services, Health Resources and Services Administration, Conference Room #5E29, 5600 Fishers Lane, Rockville, Maryland 20857, In-Person Meeting and Conference Call Format.

Status: This advisory council meeting will be open to the public.

Purpose: The NACNHSC provides advice and recommendations to the Secretary of the U.S. Department of Health and Human Services and, by designation, the Administrator of the Health Resources and Services Administration, on a range of issues including identifying the priorities for NHSC, and policy revisions.

Agenda: The NACNHSC will continue its discussion on clinician recruitment and retention and explore questions on diversity and workforce analysis. The Council will draft potential policy recommendations for the National Health Service Corps scholarship and loan repayment programs with respect to clinician retention in underserved communities. The content of the agenda is subject to change prior to the meeting. The NACNHAC final agenda will be available on the NACNHSC Web site 3 days in advance of the meeting.

SUPPLEMENTARY INFORMATION: Further information regarding the NACNHSC including the roster of members, past meetings summaries is available at the following Web site: http://nhsc.hrsa.gov/corpsexperience/aboutus/nationaladvisorycouncil/index.html. Members of the public and interested parties may request to participate in the meeting by contacting Ashley Carothers via email at ACarothers@hrsa.gov to obtain access information. Access will be granted on a first-come, first-served basis. Space is limited. Public participants may submit written statements in advance of the scheduled meeting. If you would like to provide oral public comment during the meeting, please register with the Ashley Carothers. Public comment will be limited to 3 minutes per speaker. Statements and comments can be addressed to Ashley Carothers by emailing her at ACarothers@hrsa.gov. Individuals who plan to attend and need special assistance, such as sign language interpretation or other reasonable accommodations, should notify the contact person listed above at least 10 days prior to the meeting. In addition, please be advised that committee members are given copies of all written statements submitted from the public. Any further public participation will be solely at the discretion of the Chair, with approval of the Designated Federal Official. Registration through the designated contact for the public comment session is required.

FOR FURTHER INFORMATION CONTACT: Anyone requesting information regarding the NACNHSC should contact Ashley Carothers, Bureau of Health Workforce, Health Resources and Services Administration, in one of three ways: (1) Send a request to the following address: Ashley Carothers, Bureau of Health Workforce, Health Resources and Services Administration, Room 14N108, 5600 Fishers Lane, Rockville, Maryland 20857; (2) call (301) 443-7229; or (3) send an email to ACarothers@hrsa.gov.

Jackie Painter,
Director, Division of the Executive Secretariat.

[FR Doc. 2016-04534 Filed 3-1-16; 8:45 am]

BILLING CODE 4165-15-P